OFFICE OF THE UNITED STATES TRADE REPRESENTATIVE

Implementation of United States-Colombia Trade Promotion Agreement Tariff-Rate Quota for Imports of Sugar

AGENCY: Office of the United States Trade Representative.

ACTION: Notice.

SUMMARY: USTR is providing notice that the tariff-rate quota for sugar established by the United States-Colombia Trade Promotion Agreement will be administered using certificates of quota eligibility.

DATES: Effective Date: May 15, 2012.

ADDRESSES: Inquiries may be mailed or delivered to Ann Heilman-Dahl, Director of Agriculture Affairs, Office of the United States Trade Representative, 600 17th Street NW., Washington, DC 20508.

FOR FURTHER INFORMATION CONTACT: Ann Heilman-Dahl, Office of Agriculture Affairs, telephone: (202) 395-6127 or facsimile: (202) 395-4579.

SUPPLEMENTARY INFORMATION: On November 22, 2006, the United States entered into the United States-Colombia Trade Promotion Agreement (the “Agreement”) and, on June 28, 2007, the Parties to the Agreement signed a protocol amending the Agreement. Congress approved the Agreement as amended in section 101(a) of the United States-Colombia Trade Promotion Agreement Implementation Act (the “Implementation Act”) (Pub. L. 112-42, 125 Stat. 462) (19 U.S.C. 3805 note). The President is authorized under section 201(d) of the Implementation Act to take such action as may be necessary in implementing the tariff-rate quotas set forth in Appendix I to the General Notes to the Schedule of the United States to Annex 2.3 of the Agreement to ensure the orderly marketing of commodities in the United States. Under a tariff-rate quota, the United States applies one tariff rate, known as the “in-quota tariff rate,” to imports of a product up to a particular amount, known as the “in-quota quantity,” and a different, higher tariff rate, known as the “over-quota tariff rate,” to imports of the product in excess of that amount.) Appendix I of the Agreement establishes a tariff-rate quota for imports of sugar from Colombia.

USTR is providing notice that the United States, consistent with Note 9(a) of Appendix I, is administering the duty-free quantities of sugar established under the Agreement through a certificate system substantially similar to that described in 15 CFR 2011.102(c) (2006). Consistent with 15 CFR 2011.102(c), no sugar that is the product of Colombia may be permitted entry under the in-quota tariff-rate established for imports of sugar from Colombia unless at the time of entry the person entering such sugar presents to the appropriate customs official a valid and properly executed certificate of quota eligibility for such sugar. The Secretary of Agriculture will issue such certificates of quota eligibility to the Government of Colombia. These certificates, when duly executed and issued by the certifying authority of Colombia, will authorize entry into the United States at the in-quota tariff-rate established under the Agreement.

The Office of Management and Budget (OMB) has approved the information collection requirements related to this notice in accordance with 44 U.S.C Chapter 25, and OMB control number 0551-0014 has been assigned with corresponding clearance effective through May 31, 2013.

Ronald Kirk,
United States Trade Representative.

[FR Doc. 2012-9964 Filed 4-24-12; 8:45 am]

BILLING CODE 3190-W2-P